ENVIRONMENTAL PROTECTION AGENCY

[EPA-HQ-OAR-2021-0329; FRL-9314-01-OMS]

Information Collection Request Submitted to OMB for Review and Approval; Comment Request; Certification and Compliance Requirements for Nonroad Spark-Ignition Engines (Renewal)

AGENCY: Environmental Protection Agency (EPA).

ACTION: Notice.

SUMMARY: The Environmental Protection Agency (EPA) has submitted an information collection request (ICR), Certification and Compliance Requirements for Nonroad Spark-Ignition Engines (EPA ICR Number 1695.14, OMB Control Number 2060-0338), to the Office of Management and Budget (OMB) for review and approval in accordance with the Paperwork Reduction Act. This is a proposed extension of the Nonroad Spark-Ignition Engines ICR, which is currently approved through January 31, 2022. Public comments were previously requested via the Federal Register on June 2, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or December 30, 2021.

ADDRESSES: Submit your comments to EPA, referencing the Docket ID No. EPA-HQ-OAR-2021-0329, online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Julian Davis, Attorney Adviser, Compliance Division, Office of Transportation and Air Quality, U.S. Environmental Protection Agency, 2000 Traverwood, Ann Arbor, Michigan 48105; telephone number: 734-214-4029; fax number 734-214-4869; email address: davis.julian@epa.gov.

SUPPLEMENTARY INFORMATION: Supporting documents, which explain in detail the information that the EPA will be collecting, will be available in the public docket, EPA-HQ-OAR-2021-0329, for this ICR. The docket can be viewed online at www.regulations.gov or in person at the EPA Docket Center, EPA West, Room 3334, 1301 Constitution Ave. NW, Washington, DC. The telephone number for the Docket Center is 202-566-1744. For additional information about EPA's public docket, visit http://www.epa.gov/dockets.

Abstract: This information collection is requested under the authority of Title II of the Clean Air Act (42 U.S.C. 7521 et seq.) Under this Title, EPA is charged with issuing certificates of conformity for those engines which comply with applicable emission standards. Such a certificate must be issued before engines may be legally introduced into commerce. To apply for a certificate of conformity, manufacturers are required to submit descriptions of their planned production line, including detailed descriptions of the emission control system, and test data. This information is organized by “engine family” groups expected to have similar emission characteristics. The emission values achieved during certification testing may also be used in the Averaging, Banking, and Trading (ABT) Program. The program allows manufacturers to bank credits for engine families that emit below the standard and use the credits for families that emit above the standard. They may also trade banked credits with other manufacturers. Participation in the ABT program is voluntary. Different categories of spark-ignition engines may also be required to comply with production-line testing (PLT) and in-use testing. All manufacturers must comply with recordkeeping requirements for certification and testing and follow the applicable labelling provisions for production and introduction into U.S. commerce. All the above information is collected electronically by the Gasoline Engine Compliance Center (GECC), Compliance Division, Office of Transportation and Air Quality (OTAQ), Office of Air and Radiation of the U.S. Environmental Protection Agency.

Form Numbers: 5900-450, 5900-451, 5900-452, 5900-90, 5900-133, 5900-131, 5900-453, 5900-454, 5900-455, 5900-134, 5900-456, 5900-457, 5900-458, 5900-459, 5900-92, 5900-91, 5900-130, 5900-93, 5900-93, 5900-460, 5900-463, 5900-464, 5900-465, 5900-466, 5900-467.

Respondents/affected entities: Respondents are manufacturers of nonroad engines within the following North American Industry Classification System (NAICS) code: 333618, 336312, 336999, 336991, 333112, 335312.

Estimated number of respondents: 430 (total).

Frequency of response: Yearly for certification, production, ABT, and warranty reports.

Total estimated burden: 738,603 hours. Burden is defined at 5 CFR 1320.3(b).

Total estimated cost: $95,360,655 (per year), includes $30,243,492.65 annualized capital or operation & maintenance costs.

Changes in Estimates: This ICR incorporates Emissions Defect Information Report (EDIR) and Voluntary Emissions Recall Report (VERR) obligations within this ICR. The EDIR and VERR have been segregated from 2060-0048 for nonroad spark-ignition engines and vehicles and incorporated into our computations for reporting and notice purposes in this ICR. Our previous computation and renewal request failed to provide estimates of Defect, Recall, Evaporative Components, and compliance testing, as differentiated from certification testing. In addition, the California Air Resources Board has adopted a new fuel standard for spark-ignition engines, that has taken affect. Manufacturers must conduct new testing to satisfy the new fuel requirement and durability demonstration, which has increased the number of manufacturers that must conduct new testing at the time of certification. These increases in testing, more detailed compliance testing and reporting requirements, consolidation of additional regulatory programs applicable to NRSI engines and vehicles, has increased the burden now assessed to comply across all these industries for these regulatory requirements.

Courtney Kerwin,
Director, Regulatory Support Division.

[FR Doc. 2021-25962 Filed 11-29-21; 8:45 am]

BILLING CODE 6560-50-P